DEPARTMENT OF ENERGY

Federal Energy Regulatory Commission

Combined Notice of Filings #1

Take notice that the Commission received the following exempt wholesale generator filings:

Docket Numbers: EG11-68-000.

Applicants: FRV AE Solar, LLC.

Description: Notice of Self-Certification as an Exempt Wholesale Generator by FC of FRV AE Solar, LLC.

Filed Date: 03/08/2011.

Accession Number: 20110308-5124.

Comment Date: 5 p.m. Eastern Time on Tuesday, March 29, 2011.

Take notice that the Commission received the following electric rate filings:

Docket Numbers: ER11-2201-002.

Applicants: Evergreen Wind Power III, LLC.

Description: Evergreen Wind Power III, LLC submits tariff filing per 35.17(b): Amendment to Evergreen Wind Power III, LLC MBR Application to be effective 7/1/2011.

Filed Date: 03/08/2011.

Accession Number: 20110308-5112.

Comment Date: 5 p.m. Eastern Time on Tuesday, March 29, 2011.

Docket Numbers: ER11-2558-001; ER11-2557-001; ER11-2555-001; ER11-2556-001; ER11-2549-001; ER11-2552-001; ER11-2554-001.

Applicants: Niagara Mohawk Power Corporation.

Description: Errata to Exhibits of National Grid USA.

Filed Date: 03/08/2011.

Accession Number: 20110308-5126.

Comment Date: 5 p.m. Eastern Time on Tuesday, March 29, 2011.

Docket Numbers: ER11-3034-000.

Applicants: ISO New England Inc.

Description: ISO New England Inc submits informational filing for qualification in the Forward Capacity Market for the 2014-2015 Capacity Commitment Period.

Filed Date: 03/08/2011.

Accession Number: 20110308-0201.

Comment Date: 5 p.m. Eastern Time on Wednesday, March 23, 2011.

Docket Numbers: ER11-3035-000.

Applicants: Midland Cogeneration Venture Limited Partnership.

Description: Midland Cogeneration Venture Limited Partnership submits tariff filing per 35.1: Rate Schedule 1 for Reactive Supply Service to be effective 6/1/2011.

Filed Date: 03/08/2011.

Accession Number: 20110308-5088.

Comment Date: 5 p.m. Eastern Time on Tuesday, March 29, 2011.

Docket Numbers: ER11-3036-000.

Applicants: PJM Interconnection, L.L.C.

Description: PJM Interconnection, L.L.C. submits tariff filing per 35.13(a)(2)(iii: V4-052 WMPA Original Service Agreement No. 2787 to be effective 2/14/2011.

Filed Date: 03/08/2011.

Accession Number: 20110308-5090.

Comment Date: 5 p.m. Eastern Time on Tuesday, March 29, 2011.

Docket Numbers: ER11-3037-000.

Applicants: Geodyne Energy, LLC.

Description: Geodyne Energy, LLC submits tariff filing per 35: Geodyne Energy, LLC Baseline Filing to be effective 3/8/2011.

Filed Date: 03/08/2011.

Accession Number: 20110308-5105.

Comment Date: 5 p.m. Eastern Time on Tuesday, March 29, 2011.

Docket Numbers: ER11-3038-000.

Applicants: Entergy Arkansas, Inc.

Description: Entergy Arkansas, Inc. submits tariff filing per 35.13(a)(2)(iii: ICT Extension Compliance Filing to be effective 11/17/2010.

Filed Date: 03/08/2011.

Accession Number: 20110308-5106.

Comment Date: 5 p.m. Eastern Time on Tuesday, March 29, 2011.

Docket Numbers: ER11-3047-000.

Applicants: PJM Interconnection L.L.C.

Description: Request for Limited Wavier of Tariff of PJM Interconnection L.L.C.

Filed Date: 03/08/2011.

Accession Number: 20110308-5138.

Comment Date: 5 p.m. Eastern Time on Tuesday, March 29, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Dated: March 9, 2011.
Nathaniel J. Davis, Sr.,
Deputy Secretary.

[FR Doc. 2011-6430 Filed 3-17-11; 8:45 am]

BILLING CODE 6717-01-P